NATIONAL SCIENCE FOUNDATION

Agency Information Collection Activities; Comment Request.

AGENCY: National Science Foundation.

ACTION: Submission for OMB Review; Comment Request.

SUMMARY: The National Science Foundation (NSF) has submitted the following information collection requirement(s) to OMB for review and clearance under the Paperwork Reduction Act of 1995, Pub. L. 104-13. The first notice for this collection was published at 65 FR 58297 and no comments were received. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725-17th Street, NW., Room 10235, Washington, DC 20503, and to Teresa R. Pierce, Reports Clearance Officer, National Science Foundation, 4201 Wilson Boulevard, Suite 295, Arlington, Virginia 22230 or send email to tpierce@nsf.gov. Comments regarding these information collections are best assured of having their full effect if received within 30 days of this notification. Copies of the submission(s) may be obtained by calling 703-292-7555.

NSF may not conduct or sponsor a collection of information unless the collection of information displays a currently valid OMB control number and the agency informs potential persons who are to respond to the collection of information that such persons are not required to respond to the collection of information unless it displays a currently valid OMB control number

Summary of Collection

Title: 2001 National Survey of Recent College Graduates

OMB Control Number: 3145-0077.

1. Abstract

The National Survey of Recent College Graduates (NSRCG) has been conducted biennially since 1974. For the 2001 cycle, a sample of individuals who have recently earned bachelor's and master's degrees in science and engineering from U.S. institutions will be surveyed. The purpose of the study is to provide national estimates describing the relationship between education and employment for bachelor's and master's recipients in science and engineering. The study is one of three components of the Scientists and Engineers Statistical Data System (SESTAT), which produces national estimates of the size and characteristics of the nation's science and engineering population.

The National Science Foundation Act of 1950, as subsequently amended, includes a statutory charge to “. . . provide a central clearinghouse for the collection, interpretation, and analysis of data on scientific and engineering resources, and to provide a source of information for policy formulation by other agencies of the Federal Government.” The National Survey of Recent College Graduates is designed to comply with these mandates by providing information on the supply and utilization of scientists and engineers at the bachelor's and master's degree level. Collected data will be used to produce estimates of the characteristics of these individuals. They will also provide necessary input into the SESTAT labor force data system, which produces national estimates of the size and characteristics of the country's science and engineering population. The Foundation uses this information to prepare congressionally mandated reports such as Women and Minorities in Science and Engineering and Science and Engineering Indicators. A public release file of collected data, designed to protect respondent confidentiality, is expected to be made available to researchers on CD-ROM and on the World Wide Web.

The Survey will be primarily conducted using Computer Assisted Telephone Interviews (CATI). Questionnaires will be mailed only to those individuals who are unwilling to provide information over the telephone but willing to complete a mail questionnaire. CATI interviewing will begin in May 2001 and is estimated to end in December 2001. The survey will be collected in conformance with the Privacy Act of 1974 and the individual's response to the survey is voluntary. NSF will insure that all information collected will be kept strictly confidential and will be used only for research or statistical purposes, analyzing data, and preparing scientific reports and articles.

2. Expected Respondents

We will sample approximately 14,000 graduates with bachelor's and master's degrees in science and engineering from U.S. academic institutions.

3. Burden on the Public

The amount of time to complete the questionnaire may vary depending on an individual's circumstances; however, on average it will take approximately 30 minutes to complete the survey. We estimate that the total annual burden will be 5,737 hours during the year.

Dated: March 1, 2001.
Teresa R. Pierce,
Reports Clearance Officer, National Science Foundation.

[FR Doc. 01-5417 Filed 3-5-01; 8:45 am]

BILLING CODE 7555-01-M